ENVIRONMENTAL PROTECTION AGENCY

40 CFR Part 52

[EPA-R03-OAR-2012-0272; FRL-9702-6]

Approval and Promulgation of Air Quality Implementation Plans; Maryland; Control of Iron and Steel Production Installations; Sintering Plants

AGENCY: Environmental Protection Agency (EPA).

ACTION: Direct final rule.

SUMMARY: EPA is taking direct final action to approve revisions to the Maryland State Implementation Plan (SIP) submitted by the Maryland Department of the Environment (MDE) on June 30, 2009. The revisions amend the visible emissions requirements of the Maryland SIP's regulation for the Control of Iron and Steel Production Installations only as they apply to sintering plants. The sintering plant located at the Sparrows Point steelmaking facility (Sparrows Point) is the only sintering plant located in the State of Maryland. The revisions exempt the sintering plant from the visible emissions section of the regulation for the Control of Iron and Steel Production Installations contingent upon the source's two wet scrubbers, used to control emissions of particulate matter, continuously monitoring compliance with specified pressure drop and flow rate operating parameters. EPA is approving these revisions because they provide for a continuous means of determining compliance with the applicable SIP emission rate for particulate matter from the sintering plant located at Sparrows Point, and because that emission rate has been demonstrated to protect and maintain the National Ambient Air Quality Standards (NAAQS) for PM10 (particulate matter consisting of particles with an aerodynamic diameter less than or equal to 10 micrometers). EPA is approving these revisions in accordance with the requirements of the Clean Air Act (CAA).

DATES: This rule is effective on September 25, 2012 without further notice, unless EPA receives adverse written comment by August 27, 2012. If EPA receives such comments, it will publish a timely withdrawal of the direct final rule in the Federal Register and inform the public that the rule will not take effect.

ADDRESSES: Submit your comments, identified by Docket ID Number EPA-R03-OAR-2012-0272 by one of the following methods:

A. www.regulations.gov. Follow the on-line instructions for submitting comments.

B. Email: spink.marcia@epa.gov.

C. Mail: EPA-R03-OAR-2012-0272, Marcia L. Spink, Associate Director for Policy & Science, Air Protection Division, Mailcode 3AP00, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2012-0272. EPA's policy is that all comments received will be included in the public docket without change, and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103. Copies of the State submittal are available at the Maryland Department of the Environment, 1800 Washington Boulevard, Suite 705, Baltimore, Maryland 21230.

FOR FURTHER INFORMATION CONTACT: Marcia L. Spink, Associate Director for Policy & Science, Air Protection Division (215) 814-2104, or by email at spink.marcia@epa.gov.

SUPPLEMENTARY INFORMATION:

I. Background

On June 30, 2009, MDE submitted formal revisions (#09-02) to its SIP. The SIP revisions consist of amendments to Regulation .03 Visible Emissions under (Code of Maryland administrative regulations) COMAR 26.11.10 Control of Iron and Steel Production Installations as they apply only to sintering plants. There is only one sintering plant located in Maryland. The one sintering plant affected by this regulation is located at Sparrows Point. Its particulate matter emissions are controlled by two wet (water) scrubbers each equipped with two fans. Under the current Maryland SIP, this sintering plant is subject to visible emissions and particulate matter standards. The current SIP requires that after demonstrating compliance with the applicable SIP particulate matter emission rate for sintering plants, a person may not cause or permit the discharge of visible fugitive emissions into the outdoor atmosphere, other than water in an uncombined form, which is greater than 10 percent opacity as averaged over any consecutive 6-minute period. The sintering plant's applicable SIP emission rate for particulate matter is 0.03 grains per dry standard cubic foot (gr/dscf).

The visible emissions standards for sintering plants found in Regulation .03 Visible Emissions under COMAR 26.11.10 Control of Iron and Steel Production Installations was originally established to allow the use of a Method 9 observation test as additional means of determining compliance, in addition to stack testing, with the sintering plant's applicable SIP particulate matter emission rate of .03 gr/dscf. In 2007, MDE amended Regulation .03 Visible Emissions under COMAR 26.11.10 to exempt the sintering plant at Sparrows Point from the visible emissions requirement and to establish open-ended requirements for the scrubbers' flow rates and pressure drops. Under the 2007 version of the regulation, MDE intended to establish specific flow rate and pressure drop parameters during a future stack test and to include them in the Title V permit for the sintering plant located at Sparrows Point. Upon further consideration, the MDE concurred with EPA that the SIP must stand on its own to protect the NAAQS, and that such open-ended requirements were not appropriate for inclusion in the SIP. Therefore, effective as of June 29, 2009, MDE again amended Regulation .03 under COMAR 26.11.10 to require that the two scrubbers of the sintering plant located at Sparrows Point meet specific flow rate and pressure drop parameters at all times under defined specific operating scenarios. During a stack test that demonstrated compliance with the SIP's applicable particulate matter emission rate of .03 gr/dscf, the flow rates and pressure drops of the two scrubbers were continuously monitored. Specific flow rate (in gallons per minute) and pressure drop (in inches of water) parameters for the scrubbers, established from the parameters monitored during the complying stack test, are now specified in the amended version of Regulation .03 under COMAR 26.11.10. Therefore, under the 2009 amended version of the regulation, the sintering plant at Sparrows Point is exempt from the visible emissions requirement of Regulation .03 under COMAR 26.11.10 when demonstrating compliance with the SIP's applicable particulate matter emission limit of 0.03 gr/dscf by continuously monitoring the flow rate and pressure drop parameters of the scrubbers and by providing that monitoring data to MDE. This monitoring data must demonstrate that the scrubbers are meeting the flow rate and pressure drop parameters which are now specifically included in the amended version of Regulation .03 under COMAR 26.11.10. Under Regulation .03 of COMAR 26.11.10, the exemption from the visible emissions requirement is contingent upon the sintering plant scrubbers operating in compliance with the conditions of subsection D. of the regulation which specifies the pressure drop and flow rate parameters established as previously described. The regulation also requires stack testing to be performed every 2.5 years.

Modeling has been performed in support of this SIP revision to demonstrate that the SIP's 0.03 gr/dscf applicable emission rate for particulate matter is protective of the NAAQS for PM10, and that protection is not dependent upon the visible emissions standard. A description of the modeling analyses conducted by MDE and the results are included in MDE's June 30, 2009 SIP revision submittal which is in the docket of this rulemaking. No SIP particulate matter emission rate relaxations are being approved as part of this SIP revision.

II. Summary of SIP Revision

Regulation .03 Visible Emissions under COMAR 26.11.10, at subsection A. General, (2) Exceptions, paragraph (f) has been amended to exempt visible emissions from sintering plant scrubbers that are in compliance with the conditions of subsection D. of the regulation. Regulation .03 under COMAR 26.11.10 has been amended to revise subsection D. to require:

(1) The owner or operator of the sintering plant shall ensure continuous compliance with the .03 gr/dscf applicable particulate matter emission rate by maintaining the hourly average scrubber pressure drop and water flow rate to each of the two scrubbers (referred to as Scrubber North and Scrubber South) as follows:

(2) Scrubber Operating Conditions and Requirements.

Operating conditions | Pressure drop (inches of water): North | Pressure drop (inches of water): South | Water flow rate (gallons per minute): North | Water flow rate (gallons per minute): South
2 scrubbers each with 2 fans | 33 | 39 | 3,796 | 3,718
2 scrubbers each with a wind box fan | 23 | 32 | 3,679 | 3,705
North scrubber with 2 fans and South scrubber with a wind box fan | 33 | 32 | 3,710 | 3,818
South scrubber with 2 fans and North scrubber with a wind box fan | 32 | 33 | 3,818 | 3,710
North scrubber with 2 fans | 33 |  | 3,488 |
South scrubber with 2 fans |  | 33 |  | 3,488

(3) One or more of the scrubbers be in operation while the sintering plant is in operation.

(4) Compliance with the 0.03 gr/dscf emission limit requirement for particulate matter is achieved if at any time the hourly block average of scrubber pressure drop and flow rate are not less than the values in D(2) of this regulation.

(5) The scrubber pressure drop and flow rate shall be monitored by a continuous monitoring system and the monitoring system data made available to MDE upon request.

(6) Stack Testing Requirements.

(a) The affected sintering plant shall be stack tested for particulate matter not less than once each 2.5 years. During a compliance stack test, the scrubber pressure drop and flow rate shall be recorded as hourly block averages.

(b) If the scrubber pressure drop and water flow rate determined during a compliance stack test differ from the values in D(2) of this regulation, the owner or operator may request that MDE change to the values in D(2) of this regulation to reflect the revised values.

(c) Upon receiving such a request, the MDE may propose amending the regulation to include the revised values. Any amendment shall be submitted to the EPA as a SIP revision.

EPA has determined that these revisions to Regulation .03 Visible Emissions under COMAR 26.11.10 Control of Iron and Steel Production Installations as they apply to the sintering plant located at Sparrows Point are approvable because they provide for a continuous means of determining compliance with SIP's applicable particulate matter emission limit of 0.03 gr/dscf which has been demonstrated to protect and maintain the NAAQS for PM10.

III. Final Action

EPA is approving the SIP revisions to Regulation .03 Visible Emissions under COMAR 26.11.10 submitted by MDE on June 30, 2009. EPA is publishing this rule without prior proposal because the Agency views this as a noncontroversial amendment and anticipates no adverse comment. However, in the “Proposed Rules” section of today's Federal Register, EPA is publishing a separate document that will serve as the proposal to approve the SIP revision if adverse comments are filed. This rule will be effective on September 25, 2012 without further notice unless EPA receives adverse comment by August 27, 2012. If EPA receives adverse comment, EPA will publish a timely withdrawal in the Federal Register informing the public that the rule will not take effect. EPA will address all public comments in a subsequent final rule based on the proposed rule. EPA will not institute a second comment period on this action. Any parties interested in commenting must do so at this time.

IV. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by September 25, 2012. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action to approve a revision to Regulation .03 Visible Emissions under COMAR 26.11.10 Control of Iron and Steel Production Installations as they apply to sintering plants may not be challenged later in proceedings to enforce its requirements. (See section 307(b)(2).)

List of Subjects in 40 CFR Part 52

Environmental protection, Air pollution control, Incorporation by reference, Particulate matter.

Dated: July 10, 2012.
W.C. Early,
Acting Regional Administrator, Region III.

Therefore, 40 CFR part 52 is amended as follows:

PART 52—[AMENDED]

1. The authority citation for part 52 continues to read as follows:

Authority: 42 U.S.C. 7401 et seq.

2. In § 52.1070, the table in paragraph (c) is amended by revising the entry for COMAR 26.11.10.03 to read as follows:

§ 52.1070 Identification of plan.

* * * * *

(c) * * *

EPA-Approved Regulations, Technical Memoranda, and Statutes in the Maryland SIP
Code of Maryland administrative regulations (COMAR) citation | Title/subject | State effective date | EPA approval date | Additional explanation/ citation at 40 CFR 52.1100
* * * * * * *
26.11.10 Control of Iron and Steel Production Installations
* * * * * * *
26.11.10.03 | Visible Emissions | 6/29/09 | 7/27/2012 [Insert page number where the document begins] | Revised paragraphs A. and D. of 26.11.10.03 for Sintering Plants.
* * * * * * *

* * * * *

[FR Doc. 2012-18094 Filed 7-26-12; 8:45 am]

BILLING CODE 6560-50-P